FEDERAL MARITIME COMMISSION

Sunshine Act Meeting

AGENCY HOLDING THE MEETING: Federal Maritime Commission.

TIME AND DATE: July 20, 2016—10 a.m.

PLACE: 800 North Capitol Street NW., First Floor Hearing Room, Washington, DC.

STATUS: The meeting will be held in Open Session.

MATTERS TO BE CONSIDERED:

Open Session

1. International Affairs Briefings:

a. Korea/U.S. Bilateral Discussions

b. 9th Annual U.S./China Maritime Consultative Meeting

c. 8th U.S./China Transportation Forum

d. Panama Canal Expansion

2. Supply Chain Innovation Teams Update

3. Docket No. 16-04: Proposed Rule on Ocean Common Carrier and MTO Agreements

4. Docket No. 16-05: Proposed Rule on Service Contracts and NVOCC Service Arrangements

CONTACT PERSON FOR MORE INFORMATION: Karen V. Gregory, Secretary, (202) 523-5725.

Karen V. Gregory,
Secretary.

[FR Doc. 2016-16961 Filed 7-14-16; 11:15 am]

BILLING CODE 6731-AA-P